DEPARTMENT OF COMMERCE

National Oceanic and Atmospheric Administration

RIN 0648-XA385

Endangered Species; File No. 15672

AGENCY: National Marine Fisheries Service (NMFS), National Oceanic and Atmospheric Administration (NOAA), Commerce.

ACTION: Notice; receipt of application.

SUMMARY: Notice is hereby given that Molly Lutcavage, PhD, University of Massachusetts, Amherst, 108 Main Street, Gloucester MA, 01930, has applied in due form for a permit to take leatherback sea turtles (Dermochelys coriacea) for purposes of scientific research.

DATES: Written, telefaxed, or e-mail comments must be received on or before May 26, 2011.

ADDRESSES: The application and related documents are available for review by selecting Records Open for Public Comment from the Features box on the Applications and Permits for Protected Species (APPS) home page, https://apps.nmfs.noaa.gov, and then selecting File No. 15672 from the list of available applications.

These documents are also available upon written request or by appointment in the following offices:

Permits, Conservation and Education Division, Office of Protected Resources, NMFS, 1315 East-West Highway, Room 13705, Silver Spring, MD 20910; phone (301) 713-2289; fax (301) 713-0376; and

Northeast Region, NMFS, 55 Great Republic Drive, Gloucester, MA 01930; phone (978) 281-9328; fax (978) 281-9394.

Written comments on this application should be submitted to the Chief, Permits, Conservation and Education Division:

• By e-mail to NMFS.Pr1Comments@noaa.gov (include the File No. in the subject line of the e-mail),

• By facsimile to (301) 713-0376, or

• At the address listed above.

Those individuals requesting a public hearing should submit a written request to the Chief, Permits, Conservation and Education Division at the address listed above. The request should set forth the specific reasons why a hearing on this application would be appropriate.

FOR FURTHER INFORMATION CONTACT: Colette Cairns or Amy Hapeman, (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

Research authorized under Permit No. 15672 would characterize the distribution, movements and dive behavior of leatherback sea turtles in the waters of New England. This research would inform our understanding of leatherback habitat utilization, foraging behavior, and threats posed by entanglement risk. Researchers propose to conduct research on up to 30 leatherback sea turtles annually. Researchers would use animals that have been disentangled from fishing gear by the stranding network or they would capture the animals using a breakaway hoopnet. Turtles would be measured, weighed, photographed and videotaped, flipper and passive integrated transponder tagged, blood, tissue, and fecal sampled, cloacal, oral, and nasal swabbed, tagged with an electronic transmitter, and released. The permit would be issued for 5 years.

Dated: April 19, 2011.
P. Michael Payne,
Chief, Permits, Conservation and Education Division, Office of Protected Resources, National Marine Fisheries Service.

[FR Doc. 2011-10037 Filed 4-25-11; 8:45 am]

BILLING CODE 3510-22-P